DEPARTMENT OF THE INTERIOR

Office of Natural Resources Revenue

30 CFR Parts 1210 and 1218

[Docket No. ONRR-2011-0023]

RIN 1012-AA10

Amendments to ONRR's Web Site and Mailing Addresses and Payment Definitions

AGENCY: Office of Natural Resources Revenue, Interior.

ACTION: Final rule.

SUMMARY: On May 19, 2010, the Secretary of the Interior separated and reassigned responsibilities previously performed by the former Minerals Management Service (MMS) to three separate organizations. As part of this reorganization, on October 1, 2010, the Secretary established the Office of Natural Resources Revenue (ONRR) within the Office of the Assistant Secretary—Policy, Management and Budget (PMB). At the same time, ONRR reorganized its regulations from chapter II of title 30 of the Code of Federal Regulations (CFR) to chapter XII. This final rule amends Web site and mailing addresses and payment definitions listed in 30 CFR chapter XII.

DATES: This rule is effective on May 2, 2012.

FOR FURTHER INFORMATION CONTACT: For questions on technical issues, contact Barbara Fletcher, Minerals Revenue Specialist, ONRR, telephone (303) 231-3605; or email barbara.fletcher@onrr.gov. For questions on procedural issues, contact Armand Southall, Regulatory Specialist, ONRR, telephone (303) 231-3221; or email armand.southall@onrr.gov. You may obtain a paper copy of this rule by contacting Mr. Southall by phone or email.

SUPPLEMENTARY INFORMATION:

I. Background

On May 19, 2010, by Secretarial Order No. 3299, the Secretary of the Department of the Interior (Secretary) announced the restructuring of MMS. On June 18, 2010, by Secretarial Order No. 3302, the Secretary announced the name change of MMS to the Bureau of Ocean Energy Management, Regulation, and Enforcement (BOEMRE). By these orders, the Secretary separated and reassigned the responsibilities that the former MMS previously performed to three separate organizations: The Office of Natural Resources Revenue (ONRR); the Bureau of Ocean Energy Management (BOEM); and the Bureau of Safety and Environmental Enforcement (BSEE). The ONRR is responsible for royalty management functions.

II. Explanation of Amendments

In this final rule, ONRR merely amends its Web site and mailing addresses and payment definitions listed in parts of title 30 CFR, chapter XII. This final rule does not make any substantive changes to the regulations or requirements in chapter XII. This rule will not have any effect on the rights, obligations, or interests of any affected parties. Thus, under 5 U.S.C. 553(b)(B), ONRR, for good cause, finds that notice and comment on this rule is impracticable, unnecessary and contrary to the public interest. Additionally, because this document is a “rule[] of agency organization, procedure or practice” under 5 U.S.C. 553(b)(A), this document is, in any event, exempt from the notice and comment requirements of 5 U.S.C. 553(b). Lastly, because this non-substantive rule makes no changes to the legal obligations or rights of any affected parties, and, because it is in the public interest for this rule to be effective just as soon as possible, ONRR finds that good cause exists under 5 U.S.C. 553(d)(3) to make this rule effective immediately upon publication in the Federal Register rather than 30 days after publication.

As noted, this final rule amends the following 30 CFR parts and the related existing subparts:

• Part 1210—Forms and Reports.

• Part 1218—Collection of Royalties, Rentals, Bonuses, and Other Monies Due the Federal Government.

These amendments to the regulations are explained further in the following sections:

A. Part 1210—Forms and Reports

We are revising part 1210, subparts A, B, C, D, E, and H.

ONRR's Web site and mailing address. The ONRR is amending its Web site and mailing addresses due to its reorganization. We also are updating these addresses to continually accomplish our mission and place the last burden on industry when manually submitting production and royalty forms, additional information, etc.

B. Part 1218—Collection of Royalties, Rentals, Bonuses, and Other Monies Due the Federal Government

We are revising part 1218, subparts B and H.

ONRR's Web site and mailing addresses. We are amending these addresses due to our reorganization and in order to accomplish our mission and to place the least burden on industry when manually submitting production and royalty forms, additional information, etc.

ONRR's payment definitions. We also are amending these payment definitions and adding the definition of Pay.gov to accomplish our mission and to place the least burden on industry when paying royalties, rentals, bonuses, and other monies due the Federal Government.

III. Procedural Matters

1. Regulatory Planning and Review (Executive Orders 12866 and 13563)

Executive Order (E.O.) 12866 provides that the Office of Information and Regulatory Affairs (OIRA) will review all significant rules. The Office of Information and Regulatory Affairs has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

2. Regulatory Flexibility Act

The Department of the Interior certifies that this final rule will not have a significant economic effect on a substantial number of small entities under the Regulatory Flexibility Act (5 U.S.C. 601 et seq.). This final rule will impact large and small entities but will not have a significant economic effect on either because this is a technical rule to amend ONRR's Web site and mailing addresses and payment definitions listed in title 30 CFR, chapter XII.

3. Small Business Regulatory Enforcement Fairness Act

This final rule is not a major rule under 5 U.S.C. 804(2), the Small Business Regulatory Enforcement Fairness Act. This final rule:

a. Does not have an annual effect on the economy of $100 million or more.

b. Will not cause a major increase in costs or prices for consumers, individual industries, Federal, State, or local government agencies, or geographic regions.

c. Does not have significant adverse effects on competition, employment, investment, productivity, innovation, or the ability of U.S.-based enterprises to compete with foreign-based enterprises.

4. Unfunded Mandates Reform Act

This final rule does not impose an unfunded mandate on State, local, or tribal governments, or the private sector of more than $100 million per year. This final rule does not have a significant or unique effect on State, local, or tribal governments, or the private sector. A statement containing the information required by the Unfunded Mandates Reform Act (2 U.S.C. 1531 et seq.) is not required.

5. Takings (Executive Order 12630)

Under the criteria in Executive Order 12630, this final rule does not have any significant takings implications. This final rule applies to Outer Continental Shelf (OCS) and Federal and Indian onshore leases. It does not apply to private property. A takings implication assessment is not required.

6. Federalism (Executive Order 13132)

Under the criteria in Executive Order 13132, this final rule does not have sufficient federalism implications that warrant the preparation of a Federalism Assessment. This is a technical rule to amend ONRR's Web site and mailing addresses and payment definitions listed in title 30 CFR, chapter XII. A Federalism Assessment is not required.

7. Civil Justice Reform (Executive Order 12988)

This final rule complies with the requirements of Executive Order 12988. Specifically, this rule:

a. Meets the criteria of section 3(a) requiring that all regulations be reviewed to eliminate errors and ambiguity and be written to minimize litigation; and

b. Meets the criteria of section 3(b)(2) requiring that all regulations be written in clear language and contain clear legal standards.

8. Consultation With Indian Tribes (Executive Order 13175)

Under the criteria in Executive Order 13175, we have evaluated this final rule and determined that it has no effects on federally recognized Indian Tribes.

9. Paperwork Reduction Act

This final rule does not contain information collection requirements, and a submission to OMB is not required under the Paperwork Reduction Act of 1995 (44 U.S.C. 3501 et seq.).

10. National Environmental Policy Act

This rule does not constitute a major Federal action significantly affecting the quality of the human environment. A detailed statement under the National Environmental Policy Act of 1969 (NEPA) is not required because this rule is categorically excluded under: “(i) Policies, directives, regulations, and guidelines: That are of an administrative, financial, legal, technical, or procedural nature.” See 43 CFR 46.210(i) and the DOI Departmental Manual, part 516, section 15.4.D. We have also determined that this rule is not involved in any of the extraordinary circumstances listed in 43 CFR 46.215 that would require further analysis under NEPA. The procedural changes resulting from these amendments have no consequences with respect to the physical environment. This rule will not alter in any material way natural resource exploration, production, or transportation.

11. Data Quality Act

In developing this final rule, we did not conduct or use a study, experiment, or survey requiring peer review under the Data Quality Act (Pub. L. 106-554), also known as the Information Quality Act. The Department of the Interior (DOI) has issued guidance regarding the quality of information that it relies on for regulatory decisions. This guidance is available on DOI's Web site at http://www.doi.gov/ocio/iq.html.

12. Effects on the Energy Supply (Executive Order 13211)

This final rule is not a significant energy action under the definition in Executive Order 13211. A Statement of Energy Effects is not required.

13. Clarity of This Regulation

We are required by Executive Orders 12866 and 12988 and by the Presidential Memorandum of June 1, 1998, to write all rules in plain language. This means that each rule we publish must: (a) Be logically organized; (b) Use the active voice to address readers directly; (c) Use clear language rather than jargon; (d) Be divided into short sections and sentences; and (e) Use lists and tables wherever possible.

If you feel that we have not met these requirements, send your remarks to Armand.Southall@onrr.gov. To better help us revise the rule, your remarks should be as specific as possible. For example, you should tell us the numbers of the sections or paragraphs that are unclearly written, which sections or sentences are too long, the sections where you feel lists or tables would be useful, etc.

List of Subjects

30 CFR Part 1210

Continental shelf, Geothermal energy, Government contracts, Indians—lands, Mineral royalties, Oil and gas exploration, Public lands—mineral resources, Reporting and recordkeeping requirements, Sulfur.

30 CFR Part 1218

Continental shelf, Electronic funds transfers, Geothermal energy, Indians—lands, Mineral royalties, Oil and gas exploration, Public lands—mineral resources, Reporting and recordkeeping requirements.

Dated: April 19, 2012.
Amy Holley,
Acting Assistant Secretary for Policy, Management and Budget.

Authority and Issuance

For the reasons discussed in the preamble, under the authority provided by the Reorganization Plan No. 3 of 1950 (64 Stat. 1262) and Secretarial Order Nos. 3299 and 3302, ONRR amends parts 1210 and 1218 of title 30 CFR, Chapter XII, subchapter A, as follows:

PART 1210—FORMS AND REPORTS

1. The authority citation for 30 CFR part 1210 continues to read as follows:

Authority: 5 U.S.C. 301 et seq.; 25 U.S.C. 396, 2107; 30 U.S.C. 189, 190, 359, 1023, 1751(a); 31 U.S.C. 3716, 9701; 43 U.S.C. 1334, 1801 et seq.; and 44 U.S.C. 3506(a).

§§ 1210.55, 1210.105, 1210.151, 1210.152, 1210.153, 1210.154, 1210.155, 1210.156, 1210.157, 1210.158, 1210.201, 1210.205 [Amended]

2. In the following table, amend part 1210 in the sections indicated in the left column by removing the text in the center column and adding in its place the text in the right column.

Amend | By removing the reference to: | And adding in its place:
§ 1210.55(b)(1) | P.O. Box 5810, Denver, Colorado 80217-5810 | P.O. Box 25627, Denver, CO 80225-0627.
§ 1210.105(b)(1) | P.O. Box 17110, Denver, Colorado 80217-0110 | P.O. Box 25627, Denver, CO 80225-0627.
§ 1210.151(c)(2) | P.O. Box 25165, MS 392B2, Denver, Colorado 80217-0165 | P.O. Box 25165, Denver, CO 80225-0165.
§ 1210.152(c)(1) | P.O. Box 25165, MS 396B2, Denver, Colorado 80217-0165 | P.O. Box 25165, Denver, CO 80225-0165.
§ 1210.153(c)(1) | P.O. Box 25165, MS 396B2, Denver, Colorado 80217-0165 | P.O. Box 25165, Denver, CO 80225-0165.
§ 1210.154(c)(1) | P.O. Box 25165, MS 392B2, Denver, Colorado 80217-0165 | P.O. Box 25165, Denver, CO 80225-0165.
§ 1210.155(b)(2)(i) | P.O. Box 25165, MS 392B2, Denver, Colorado 80217-0165 | P.O. Box 25165, Denver, CO 80225-0165.
§ 1210.156(c)(1) | P.O. Box 25165, MS 382B2, Denver, Colorado 80217-0165 | P.O. Box 25165, Denver, CO 80225-0165.
§ 1210.157(c)(1) | P.O. Box 25165, MS 64220, Denver, Colorado 80217-0165 | P.O. Box 25165, Denver, CO 80225-0165.
§ 1210.158(c)(1) | P.O. Box 25165, MS 357B1, Denver, Colorado 80217-0165 | P.O. Box 25165, Denver, CO 80225-0165.
§ 1210.201(c)(3)(i) | P.O. Box 5810, Denver, Colorado 80217-5810 | P.O. Box 25627, Denver, CO 80225-0627.
§ 1210.205(c)(1) | P.O. Box 25165, MS 390B2, Denver, Colorado 80217-0165 | P.O. Box 25165, Denver, CO 80225-0165.

3. Amend § 1210.54 by revising paragraph (b) to read as follows:

§ 1210.54 Must I submit this royalty report electronically?

* * * * *

(b) As of December 31, 2011, all reporters/payors must report to ONRR electronically via the eCommerce Reporting Web site. All reporters/payors also must report royalty data directly or upload files using the ONRR electronic web form located at https://onrrreporting.onrr.gov. You must upload your files in one of the following formats: The American Standard Code for information interchange (ASCII) or Comma Separated Values (CSV) formats. You must create your external files in the proprietary ASCII and CSV file layout formats defined by ONRR. You can generate these external files from your system application. Reporters/payors also can access detailed information and instructions regarding how to use the eCommerce Reporting Web site at http://www.onrr.gov/FM/PDFDocs/eCommerce_FAQ.pdf.

* * * * *

4. Amend § 1210.56 by revising paragraphs (a) and (c) to read as follows:

§ 1210.56 Where can I find more information on how to complete the royalty report?

(a) Refer to the ONRR Minerals Revenue Reporter Handbook for specific guidance on how to prepare and submit Form MMS-2014. You may find the handbook at http://www.onrr.gov/FM/Handbooks/default.htm or from the contacts on that Web page.

* * * * *

(c) You may find Form MMS-2014 at http://www.onrr.gov/FM/Forms/AFSOil_Gas.htm or from contacts listed on that Web page.

5. Amend § 1210.104 by revising paragraph (b) to read as follows:

§ 1210.104 Must I submit these production reports electronically?

* * * * *

(b) As of December 31, 2011, all reporters/payors must report to ONRR electronically via the eCommerce Reporting Web site. All reporters/payors also must report production data directly or upload files using the ONRR electronic web form located at https://onrrreporting.onrr.gov. You must upload your files in one of the following formats: The American Standard Code for information interchange (ASCII) or Comma Separated Values (CSV) formats. You must create your external files in the proprietary ASCII and CSV file layout formats defined by ONRR. You can generate these external files from your system application. Reporters/payors also can access detailed information and instructions regarding how to use the eCommerce Reporting Web site at http://www.onrr.gov/FM/PDFDocs/eCommerce_FAQ.pdf.

* * * * *

6. Amend § 1210.106 by revising paragraphs (a) and (c) to read as follows:

§ 1210.106 Where can I find more information on how to complete these production reports?

(a) Refer to the ONRR Minerals Production Reporter Handbook for specific guidance on how to prepare and submit Forms MMS-4054 and MMS-4058. You may find the handbook at http://www.onrr.gov/FM/Handbooks/default.htm or from contacts listed on that Web page.

* * * * *

(c) You may find Forms MMS-4054 and MMS-4058 at http://www.onrr.gov/FM/Forms/AFSOil_Gas.htm or from contacts listed on that Web page.

7. Amend § 1210.151 as follows:

a. Revise paragraph (b) to read as set forth below.

b. Remove “MS 392B2,” from paragraph (c)(3).

§ 1210.151 What reports must I submit to claim an excess allowance?

* * * * *

(b) Reporting options. You may find Form MMS-4393 at http://www.onrr.gov/FM/Forms/AFSOil_Gas.htm or from contacts listed on that Web page.

* * * * *

8. Amend § 1210.152 as follows:

a. Revise paragraph (b) to read as set forth below.

b. Remove “MS 396B2,” from paragraph (c)(2).

§ 1210.152 What reports must I submit to claim allowances on an Indian lease?

* * * * *

(b) Reporting options. You must submit Forms MMS-4110, MMS-4109, and MMS-4295 manually. You may find the forms at http://www.onrr.gov/FM/Forms/AFSOil_Gas.htm or from contacts listed on that Web page.

* * * * *

9. Amend § 1210.153 as follows:

a. Revise paragraph (b) to read as set forth below.

b. Remove “MS 396B2,” from paragraph (c)(2).

§ 1210.153 What reports must I submit for Indian gas valuation purposes?

* * * * *

(b) Reporting options. You must submit Forms MMS-4410 and MMS-4411 manually. You may find the forms at http://www.onrr.gov/FM/Forms/AFSOil_Gas.htm or from contacts listed on that Web page.

* * * * *

10. Amend § 1210.154(c)(2) by removing “MS 392B2,”.

11. Amend § 1210.155 as follows:

a. Revise paragraph (b) to read as set forth below.

b. Remove “MS 392B2,” from paragraph (b)(2)(ii).

§ 1210.155 What reports must I submit for Federal onshore stripper oil properties?

* * * * *

(b) Reporting options. You may find Form MMS-4377 at http://www.onrr.gov/FM/Forms/AFSOil_Gas.htm. You may file the form:

* * * * *

12. Amend § 1210.156(c)(2) by removing “MS 382B2,”.

13. Amend § 1210.158 as follows:

a. Revise paragraph (b) to read set forth below.

b. Remove “MS 357B1,” from paragraph (c)(2).

§ 1210.158 What reports must I submit to designate someone to make my royalty payments?

* * * * *

(b) Reporting options. You must submit Form ONRR-4425 manually. You may find the form at http://www.onrr.gov/FM/Forms/AFSOil_Gas.htm.

* * * * *

14. Amend § 1210.205 as follows:

a. Revise paragraph (b) to read as set forth below.

b. Remove “MS 390B2,” from paragraph (c)(2).

§ 1210.205 What reports must I submit to claim allowances on Indian coal leases?

* * * * *

(b) Reporting options. You must submit the forms manually. You may find the forms at http://www.onrr.gov/FM/Forms/AFSSol_Min.htm.

* * * * *

15. Revise § 1210.354 to read as follows:

§ 1210.354 Reporting instructions.

Refer to ONRR's Minerals Revenue Reporter Handbook—Oil, Gas, and Geothermal Resources for specific guidance on how to prepare and submit required information collection reports and forms to ONRR. You may find the handbook at http://www.onrr.gov/FM/Handbooks/default.htm or from contacts listed on that Web page.

PART 1218—COLLECTION OF ROYALTIES, RENTALS, BONUSES, AND OTHER MONIES DUE THE FEDERAL GOVERNMENT

16. The authority citation for 30 CFR part 1218 continues to read as follows:

Authority: 25 U.S.C. 396 et seq., 396a et seq., 2101 et seq.; 30 U.S.C. 181 et seq., 351 et seq., 1001 et seq., 1701 et seq.; 31 U.S.C. 3335; 43 U.S.C. 1301 et seq., 1331 et seq., and 1801 et seq.

17. Revise § 1218.50(d)(5) to read as follows:

§ 1218.50 Timing of payment.

* * * * *

(d) * * *

(5) You should submit your certifications under paragraph (d)(2) of this section to Financial Management, Office of Natural Resources Revenue, P.O. Box 25627, Denver, CO 80225-0627.

* * * * *

18. Amend § 1218.51 as follows:

a. Revise the definitions of ACH, EFT, and Fedwire, add a definition of Pay.gov in alphabetical order, and remove the definition RIK, in paragraph (a) as set forth below.

b. Revise paragraph (d)(2) to read as set forth below.

c. Remove paragraph (d)(3).

d. Add “6th Avenue and Kipling Street,” after “Denver Federal Center,” and remove “-0165” after “80225” in paragraph (e).

§ 1218.51 How to make payments.

(a) Definitions.

ACH—Automated Clearing House. A type of EFT using the ACH bank-to-bank network.

* * * * *

EFT—Electronic Funds Transfer. Any paperless transfer of funds initiated through an electronic terminal. For ONRR purposes, EFT includes Fedwire and ACH transfers, such as Pay.gov.

Fedwire—A type of EFT using the Federal Reserve Wire network.

* * * * *

Pay.gov—A type of EFT using the ACH network that is initiated by a payor on the Pay.gov Web site.

* * * * *

(d) * * *

(2) For a Federal nonproducing lease rental or deferred bonus payment, send it to: Office of Natural Resources Revenue, P.O. Box 25627, Denver, CO 80225-0627.

* * * * *

19. Revise § 1218.560 to read as follows:

§ 1218.560 How do I submit Form MMS-4444?

You may obtain a copy of Form MMS-4444 and instructions from ONRR. This form is posted at http://www.onrr.gov/FM/Forms/default.htm. Submit the completed, signed form to the address designated on Form MMS-4444 instructions.

[FR Doc. 2012-10360 Filed 5-1-12; 8:45 am]

BILLING CODE 4310-T2-P